DEPARTMENT OF COMMERCE

National Oceanic and Atmospheric Administration

[I.D. 101503C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Subsistence Fishery for Pacific Halibut on Waters Off Alaska: Registration and Marking of Gear.

Form Number(s): None.

OMB Approval Number: 0648-0460.

Type of Request: Regular submission.

Burden Hours: 1,739.

Number of Respondents: 13,350.

Average Hours Per Response: 10 minutes for a registration and 15 minutes to mark buoys.

Needs and Uses: This program for the Pacific halibut subsistence fishery includes requirements for registration to participate in the fishery, and the marking of certain types of gear used in this fishery. The registration requirement is intended to allow qualified persons to practice the long-term customary and traditional harvest of Pacific halibut for food in a non-commercial manner. The gear-marking requirement aids in enforcement and in actions related to gear damage or loss. The registration information may be submitted by an individual or as a list of multiple individuals from an Alaska Native tribe. Submissions may be made by mail, FAX, e-mail, or on-line.

Affected Public: Individuals or households; business or other for-profit organizations; State, Local, or Tribal Government.

Frequency: On occasion, every 2 or 4 years.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: October 14, 2003.
Gwellnar Banks,
Management Analyst, Office of the Chief Information Officer.

[FR Doc. 03-26399 Filed 10-17-03; 8:45 am]

BILLING CODE 3510-22-S